DEPARTMENT OF TRANSPORTATION

Federal Aviation Administration

14 CFR Part 71

[Docket No. FAA-2021-0919; Airspace Docket No. 21-ASO-32]

RIN 2120-AA66

Amendment of United States Area Navigation (RNAV) Route T-215 and Establishment of RNAV Route T-408; Central United States

AGENCY: Federal Aviation Administration (FAA), DOT.

ACTION: Final rule.

SUMMARY: This action amends United States Area Navigation (RNAV) route T-215 in the central United States due to the decommissioning of the Holston Mountain, TN, (HMV) VHF Omnidirectional Range Tactical Air Navigation (VORTAC), and the Hazard, KY, (AZQ) Distance Measuring Equipment (DME) in support of the VHF Omnidirectional Range (VOR) Minimum Operational Network (MON) program. Additionally, this action extends T-215 to the north and south of its current limits to expand the availability of RNAV in the National Airspace System (NAS). This action also establishes T-408 that was proposed previously in a separate docket action.

DATES: Effective date 0901 UTC, July 14, 2022. The Director of the Federal Register approves this incorporation by reference action under 1 CFR part 51, subject to the annual revision of FAA Order JO 7400.11 and publication of conforming amendments.

ADDRESSES: FAA Order JO 7400.11F, Airspace Designations and Reporting Points, and subsequent amendments can be viewed online at https://www.faa.gov/air_traffic/publications/. For further information, you can contact the Rules and Regulations Group, Federal Aviation Administration, 800 Independence Avenue SW, Washington, DC 20591; telephone: (202) 267-8783.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic within the NAS.

History

The FAA published a notice of proposed rulemaking for Docket No. FAA-2021-0919, in the Federal Register (86 FR 61722; November 8, 2021), amending T-215. Interested parties were invited to participate in this rulemaking effort by submitting written comments on the proposal. One comment was received that did not pertain to the proposal.

United States RNAV T-routes are published in paragraph 6011 of FAA Order JO 7400.11F, dated August 10, 2021, and effective September 15, 2021, which is incorporated by reference in 14 CFR 71.1. The RNAV routes listed in this document will be subsequently published in FAA Order JO 7400.11.

Availability and Summary of Documents for Incorporation by Reference

This document amends FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

Difference From the NPRM

The FAA is adding the establishment of a new route, designated T-408, to this docket action. The establishment of T-408 was proposed in the Federal Register under Docket No. FAA-2021-0991 (86 FR 67373; November 26, 2021). No comments were received in response to the NPRM. However, the required documentation for T-408 was delayed and could not be completed in time to meet the planned chart date for Docket No. FAA-2021-0991. Therefore, T-408 is being added to this final rule.

The Rule

This action amends 14 CFR part 71 by amending RNAV route T-215 by extending the route further to the north and southeast in the central United States. This action is necessary due to the planned decommissioning of the Holston Mountain, TN, (HMV) VORTAC, and the Hazard, KY, (AZQ) DME. Additionally, this action adds the establishment of T-408, previously proposed as described above, to this docket action.

T-215: T-215 currently extends between the Holston Mountain, TN, VORTAC, and the GAMKE, IN, waypoint (WP). This amendment includes replacing the Holston Mountain, TN, VORTAC with the HORAL, TN, WP, and replacing the Hazard, KY, DME with the DACEL, KY, WP. The route is extended south of the HORAL WP to the BURGG, SC, WP. Additionally, the route is extended to the north of the GAMKE, IN, WP ending at the CPTON, IL, WP, which is approximately 15 nautical miles east of the Bradford, IL, (BDF) VORTAC. The HILTO, VA, FIX; FLENR, VA, WP; and RISTE, KY, WP, are not needed for defining the track of T-215 so they are removed from the route legal description. In addition, the HUGEN, KY, FIX is removed from the route because it does not denote a route turn point. Because a VOR is not a required component for navigating on T-215, removal of the Holston Mountain VORTAC does not affect the alignment or navigation along T-215. As amended, T-215 extends between the BURGG, SC, WP, and the CPTON, IL, WP.

T-408: T-408 is a new route that extends between the NOKIE, GA, WP (replacing the Macon, GA, (MCN) VORTAC), eastward to the TBERT, GA, WP (replacing the Savannah, GA, (SAV) VORTAC). T-408 overlies VOR Federal airway V-154 between the Macon VORTAC, and the Savannah VORTAC. This route expands the availability of RNAV routing in the NAS.

The full route legal descriptions are listed in “The Amendment” section, below.

These changes expand the availability of RNAV to reduce the NAS dependency on ground based navigational systems and assist with the transition to a more efficient Performance Based Navigation route structure.

FAA Order JO 7400.11, Airspace Designations and Reporting Points, is published yearly and effective on September 15.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending RNAV route T-215, and establishing T-408, in support of efforts transitioning the NAS from ground-based to satellite-based navigation, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5b, which categorically excludes from further environmental impact review “Actions regarding establishment of jet routes and Federal airways (see 14 CFR 71.15, Designation of jet routes and VOR Federal airways) . . .”. As such, this action is not expected to result in any potentially significant environmental impacts. In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 6011 United States Area Navigation Routes.

* * * * *

T-215 BURGG, SC to CPTON, IL [Amended]
BURGG, SC | WP | (Lat. 35°02′00.55″ N, long. 081°55′36.86″ W)
GENOD, NC | FIX | (Lat. 35°33′06.04″ N, long. 081°56′57.05″ W)
HORAL, TN | WP | (Lat. 36°26′13.99″ N, long. 082°07′46.48″ W)
DACEL, KY | WP | (Lat. 37°23′10.68″ N, long. 083°14′52.13″ W)
Lexington, KY (HYK) | VOR/DME | (Lat. 37°57′58.86″ N, long. 084°28′21.06″ W)
GAMKE, IN | WP | (Lat. 38°46′12.99″ N, long. 085°14′35.37″ W)
MILAN, IN | WP | (Lat. 39°21′21.98″ N, long. 085°19′00.63″ W)
DEEKS, IN | WP | (Lat. 40°12′38.37″ N, long. 085°58′05.38″ W)
BONOY, IN | FIX | (Lat. 40°30′24.11″ N, long. 086°01′16.88″ W)
CLEFT, IN | WP | (Lat. 41°04′51.95″ N, long. 086°02′29.28″ W)
MAPPS, IN | WP | (Lat. 41°10′53.94″ N, long. 086°56′32.63″ W)
CPTON, IL | WP | (Lat. 41°06′51.57″ N, long. 089°11′58.93″ W)
* * * * * * *
T-408 NOKIE, GA to TBERT, GA [New]
NOKIE, GA | WP | (Lat. 32°41′28.86″ N, long. 083°38′49.88″ W)
GUMPY, GA | WP | (Lat. 32°33′48.15″ N, long. 082°49′48.76″ W)
LOTTS, GA | FIX | (Lat. 32°20′11.64″ N, long. 081°51′18.42″ W)
TBERT, GA | WP | (Lat. 32°08′46.76″ N, long. 081°11′57.44″ W)

* * * * *

Issued in Washington, DC, on May 9, 2022.
Scott M. Rosenbloom,
Manager, Airspace Rules and Regulations.

[FR Doc. 2022-10316 Filed 5-12-22; 8:45 am]

BILLING CODE 4910-13-P